DEPARTMENT OF VETERANS AFFAIRS

Advisory Committee on Structural Safety of Department of Veterans Affairs Facilities, Notice of Meeting

The Department of Veterans Affairs (VA) gives notice under Public Law 92-463 (Federal Advisory Committee Act) that a meeting of the Advisory Committee on Structural Safety of Department of veterans Affairs Facilities will be held on Thursday, June 5, 2003, from 10 a.m. until 5 p.m., and on Friday, June 6, 2003, from 9 a.m. until 12:30 p.m., in Room 442, Export Import Bank, 811 Vermont Avenue, NW., Washington DC. The meeting is open to the public.

The purpose of the Committee is to advise the Secretary of Veterans Affairs on matters of structural safety in the construction and remodeling of VA facilities and to recommend standards for use by VA in the construction and alteration of facilities as prescribed under section 8105 of Title 38, United States Code.

On June 5, the Committee will review developments in the filed of structural design, as they relate to seismic safety of buildings, and fire safety issues. One June 6, the Committee will vote on structural and fire safety issues for inclusion in VA's standards.

No time will be allocated for receiving oral presentations from the public. However, the Committee will accept written comments. Comments can be sent to Mr. Krishna K. Banga, Senior Structural Engineer, Facilities Quality Service, Office of Facilities Management (181A), Department of Veterans Affairs, 810 Vermont Avenue, NW., Washington, DC 20420. Those wishing to attend should contact Mr. Banga at (202) 565-9370.

Dated: April 2, 2003.
By Direction of the Secretary:
E. Phillip Riggin,
Committee Management Officer.

[FR Doc. 03-11845 Filed 5-12-03; 8:45 am]

BILLING CODE 8320-01-M